DEPARTMENT OF ENERGY

National Energy Technology Laboratory; Notice of Availability of a Financial Assistance Solicitation

AGENCY: National Energy Technology Laboratory, Department of Energy (DOE).

ACTION: Notice of Availability of a Financial Assistance Solicitation.

SUMMARY: Notice is hereby given of the intent to issue Financial Assistance Solicitation No. DE-PS26-02NT15373 entitled “Focused Research in Air Quality and Produced Water Management in Oil and Gas Exploration and Production.” The Department of Energy (DOE) National Energy Technology Laboratory (NETL), on behalf of its National Petroleum Technology Office (NPTO), seeks applications for cost-shared research projects that address specific air quality or produced water management issues faced by the oil and gas industry. Applications will either address (1) solutions to air quality issues in emission control technology, monitoring technology or air modeling or (2) produced water management issues in low cost treatment technologies, beneficial use of produced water, or best management practices for handling, treatment and/or disposal. The goal is to provide solutions to issues that are limiting domestic on-shore or off-shore production while providing the same or higher levels of environmental protection.

DATES: The solicitation will be available on the DOE/NETL's Internet address at http://www.netl.doe.gov/business and on the “Industry Interactive Procurement System” (IIPS) webpage located at http://e-center.doe.gov on or about February 28, 2002.

FOR FURTHER INFORMATION CONTACT: Keith R. Miles, U.S. Department of Energy, National Energy Technology Laboratory, P.O. Box 10940, MS 921-107, Pittsburgh, PA 15236, E-mail Address: miles@netl.doe.gov, Telephone Number: 412-386-5984.

SUPPLEMENTARY INFORMATION: The Department of Energy (DOE) National Energy Technology Laboratory (NETL), on behalf of its National Petroleum Technology Office (NPTO), is soliciting applications for cost-shared research projects that address specific air quality or produced water management issues faced by the oil and gas industry. The goal is to provide solutions to issues that are limiting domestic on-shore or off-shore production while providing the same or higher levels of environmental protection.

The mission of the Department of Energy's Fossil Energy Oil Program is derived from the National need for increased oil production for national security, requirements for Federal Lands stewardship, and increased protection of the environment. The Oil and Gas Environmental Program supports those goals and the National Energy Policy goal of increasing domestic oil and gas production, by providing technologies and approaches that reduce the cost of effective environmental protection and by providing technologies and approaches that improve environmental protection.

The two areas of interest for this solicitation are:

(1) Air Quality

This area of interest is directed toward providing better tools to meet existing requirements as well as providing a more accurate assessment of the impacts of oil and gas activities on regional air quality. Applications in this area should address emissions control technologies for oil and gas E&P activities or address monitoring and modeling improvements that will provide more accurate assessments and predictions of the impacts of both current and future oil and gas activities on regional air quality. Applications in this area of interest should clearly demonstrate that the results of the project meet current legal and regulatory requirements or that the appropriate government agencies are appropriately involved with the project and support the project goals.

(2) Produced Water

This area of interest is directed toward reducing the cost of produced water management. Applications in this area should address lower cost treatment processes, economic beneficial use of produced water, or best management practices that reduce the overall cost of produced water handling. All applications should clearly describe how a successful project will result in cost savings to operators and the magnitude of those savings. Applications addressing beneficial use of produced water may address treatment technologies designed to meet certain use criteria or may address ecological and/or regulatory concerns that limit producers' options for managing produced water. If implementation of the results of the project are dependent upon approval or concurrence of one or more regulatory agencies, applications should clearly demonstrate that such agencies are appropriately involved with the project and support the project goals.

The goal of this solicitation is to provide solutions to issues that are limiting domestic on-shore or off-shore production while providing the same or higher levels of environmental protection. These air quality and produced water management issues are limiting domestic production by restricting additional development or by adding costs that cause operators to abandon existing wells while substantial recoverable reserves remain in the ground.

The issues listed above are multi-faceted problems. In many cases, the overall solution may vary by region or may require several separate steps to resolve completely. Selected projects are expected to describe the overall problem and the region or regions affected as well as describing how the proposed project fits into the overall solution. Selected projects are also expected to describe as completely as possible the impact that the project will have on increasing or maintaining domestic production. The description of the production impact should discuss in detail the resource affected and the amount of domestic production that can be added or maintained as a result of the successful completion of the project.

DOE anticipates awarding approximately three (3) to seven (7) financial assistance (i.e., Cooperative Agreements) with a project performance period no less than one year in length and up to three years in length. Approximately $7.0 million of DOE funding is planned over a 3-year period for this solicitation. DOE has determined the minimum cost share of twenty percent (20%) of the total estimated project cost is required; details of the cost sharing requirement and the specific funding levels will be contained in the program solicitation.

This solicitation will be targeted for unrestricted competition. However, applications submitted by or on behalf of (1) another Federal agency; (2) a Federally Funded Research and Development Center sponsored by another Federal agency; or (3) a Department of Energy (DOE) Management Operating (M&O) contractor will not be eligible for award under this solicitation. However, an application that includes performance of a portion of the work by a DOE M&O contractor will be evaluated and may be considered for award subject to the provisions to be set forth in Program Solicitation DE-PS26-02NT15373.

Note: The limit on participation by an M&O contractor for an individual project under this solicitation cannot exceed 25% of the total project cost.

Once released, the solicitation will be available for downloading from the IIPS Internet page. At this Internet site you will also be able to register with IIPS, enabling you to submit an application. If you need technical assistance in registering or for any other IIPS function, call the IIPS Help Desk at (800) 683-0751 or E-mail the Help Desk personnel at IIPS—HelpDesk@e-center.doe.gov. The solicitation will only be made available in IIPS, no hard (paper) copies of the solicitation and related documents will be made available.

Prospective applicants who would like to be notified as soon as the solicitation is available should subscribe to the Business Alert Mailing List at http://www.netl.doe.gov/business. Once you subscribe, you will receive an announcement by E-mail that the solicitation has been released to the public. Telephone requests, written requests, E-mail requests, or facsimile requests for a copy of the solicitation package will not be accepted and/or honored. Applications must be prepared and submitted in accordance with the instructions and forms contained in the solicitation. The actual solicitation document will allow for requests for explanation and/or interpretation.

Issued in Pittsburgh, PA on February 5, 2002.
Dale A. Siciliano,
Deputy Director, Acquisition and Assistance Division.

[FR Doc. 02-4044 Filed 2-19-02; 8:45 am]

BILLING CODE 6450-01-P